DEPARTMENT OF TRANSPORTATION

Federal Aviation Administration

14 CFR Part 39

[Docket No. 2000-CE-03-AD]

RIN 2120-AA64

Airworthiness Directives; Pilatus Aircraft Ltd. Models PC-12 and PC-12/45 Airplanes

AGENCY: Federal Aviation Administration, DOT.

ACTION: Notice of proposed rulemaking (NPRM).

SUMMARY: This document proposes to adopt a new airworthiness directive (AD) that would apply to certain Pilatus Aircraft Ltd. (Pilatus) Models PC-12 and PC-12/45 airplanes. The proposed AD would require you to accomplish the following on the torque oil-pressure tubes and py pressure pipe: a one-time inspection for abrasion damage, distortion, and proper clearance; and if necessary, adjustment and replacement of these components. The proposed AD is the result of mandatory continuing airworthiness information (MCAI) issued by the airworthiness authority for Switzerland. The actions specified by the proposed AD are intended to correct abrasive damage from rubbing pipes and consequent loss of engine oil.

DATES: The Federal Aviation Administration (FAA) must receive any comments on this proposed rule on or before September 22, 2000.

ADDRESSES: Submit comments in triplicate to the Federal Aviation Administration (FAA), Central Region, Office of the Regional Counsel, Attention: Rules Docket No. 2000-CE-03-AD, 901 Locust, Room 506, Kansas City, Missouri 64106. You may inspect comments at this location between 8 a.m. and 4 p.m., Monday through Friday, except holidays.

You may get the service information that applies to the proposed AD from Pilatus Aircraft Ltd., Customer Liaison Manager, CH-6371 Stans, Switzerland; telephone: +41 41 619 63 19; facsimile: +41 41 619 6224. You may examine this information at the Rules Docket at the address above.

FOR FURTHER INFORMATION CONTACT: Mr. Roman T. Gabrys, Aerospace Engineer, FAA, Small Airplane Directorate, 901 Locust, Room 301, Kansas City, Missouri 64106; telephone: (816) 329-4141; facsimile: (816) 329-4090.

SUPPLEMENTARY INFORMATION:

Comments Invited

How do I comment on this proposed AD? We invite your comments on the proposed rule. You may submit whatever written data, views, or arguments you choose. You need to include the rule's docket number and submit your comments in triplicate to the address specified under the caption ADDRESSES. We will consider all comments received on or before the closing date specified above, before acting on the proposed rule. We may change the proposals contained in this notice in light of the comments received.

Are there any specific portions of the AD I should pay attention to? The FAA specifically invites comments on the overall regulatory, economic, environmental, and energy aspects of the proposed rule that might necessitate a need to modify the proposed rule. You may examine all comments we receive. We will file a report in the Rules Docket that summarizes each FAA contact with the public that concerns the substantive parts of this proposal.

The FAA is reviewing the writing style we currently use in regulatory documents, in response to the Presidential memorandum of June 1, 1998. That memorandum requires federal agencies to communicate more clearly with the public. We are interested in your comments on the ease of understanding this document, and any other suggestions you might have to improve the clarity of FAA communications that affect you. You can get more information about the Presidential memorandum and the plain language initiative at http://www.faa.gov/language/.

How can I be sure FAA receives my comment? If you want us to acknowledge the receipt of your comments, you must include a self-addressed, stamped postcard. On the postcard, write “Comments to Docket No. 2000-CE-03-AD.” We will date stamp and mail the postcard back to you.

Discussion

What events have caused this proposed AD? The Federal Office for Civil Aviation (FOCA), which is the airworthiness authority for Switzerland, recently notified the FAA that an unsafe condition may exist on certain Pilatus Model PC-12 and PC-12/45 airplanes. The FOCA reports that 3 airplanes had rubbing pipes, 2 with consequent leakage of engine oil. Inadequate clearance caused these components to touch and rub.

What are the consequences if you do not correct the condition? This condition, if not corrected, could result in loss of propulsion during flight.

Relevant Service Information

Is there service information that applies to this subject? Pilatus has issued Service Bulletin No. 71-004, dated December 22, 1999.

What are the provisions of this service bulletin? The service bulletin describes procedures for accomplishing the following on the torque oil-pressure tubes and py pressure pipe:

—A one-time inspection for abrasion damage, distortion, and proper clearance; and,

—If necessary, adjustment and replacement of these components.

What action did the Swiss take? The Swiss issued AD Number HB 2000-007, dated January 17, 2000, in order to assure the continued airworthiness of these airplanes in Switzerland.

Was this in accordance with the bilateral airworthiness agreement? Pilatus manufactured these airplane models in Switzerland. The FAA type certificated the model for operation in the United States under the provisions of section 21.29 of the Federal Aviation Regulations (14 CFR 21.29) and the applicable bilateral airworthiness agreement. Complying with this bilateral airworthiness agreement, the FOCA informed FAA of the situation described above.

The FAA's Determination and an Explanation of the Provisions of the Proposed AD

What has FAA decided? The FAA has examined the findings of the FOCA; reviewed all available information, including the service information referenced above; and determined that:

—The unsafe condition referenced in this document exists or could develop on other Pilatus Model PC-12 and PC-12/45 airplanes of the same type design;

—These airplanes should incorporate the actions specified in the above service bulletin; and

—The FAA should take AD action to correct this unsafe condition.

What does this proposed AD require? This proposed AD requires you to:

—Accomplish a one-time inspection of the torque oil-pressure tubes and py pressure pipe; and

—Adjust or replace, if necessary, the torque oil-pressure tubes and py pressure pipe.

What are the differences between the FOCA AD and the proposed AD? The Swiss AD requires inspection, and, if necessary, adjustment or replacement within 10 days or 25 hours time-in-service (TIS) after the effective date of the AD, whichever occurs first. We propose a requirement that you inspect, and, if necessary, adjust or replace, the pipes within 50 hours TIS after the effective date of the proposed AD.

We do not have justification to require this action within 25 hours TIS. We use compliance times such as this when we have identified an urgent safety of flight situation. We believe that 50 hours TIS will give the owners or operators of the affected airplanes enough time to have the proposed actions accomplished without compromising the safety of the airplanes.

Cost Impact

This proposed AD impacts how many airplanes? We estimate that the proposed AD would affect 108 airplanes in the U.S. registry.

What is the cost impact of the proposed inspection for the affected airplanes on the U.S. Register? We estimate that it would take approximately 1 workhour per airplane to accomplish the proposed inspection, at an average labor rate of $60 an hour. Based on the figures presented above, we estimate the total cost impact of the proposed inspection on U.S. operators to be $6,480, or $60 per airplane.

What is the cost impact of the proposed adjustment and replacement for the affected airplanes on the U.S. Register? We estimate that it would take approximately 2 workhours per airplane to accomplish the proposed adjustment and replacement, at an average labor rate of $60 an hour. Based on the figures presented above, we estimate that the total cost impact of the proposed adjustment and replacement, if necessary, on U.S. operators is $120 per airplane. The manufacturer will provide replacement parts at no charge to the owner/operator of the affected airplanes.

Regulatory Impact

Does this proposed AD impact relations between Federal and State governments? The proposed regulations would not have substantial direct effects on the States, on the relationship between the national government and the States, or on the distribution of power and responsibilities among the various levels of government. We have determined that this proposed rule would not have federalism implications under Executive Order 13132.

Does this proposed AD involve a significant rule or regulatory action? For the reasons discussed above, I certify that this proposed action (1) is not a “significant regulatory action” under Executive Order 12866; (2) is not a “significant rule” under Department of Transportation Regulatory Policies and Procedures (44 FR 11034, February 26, 1979); and (3) if put into effect, will not have a significant economic impact, positive or negative, on a substantial number of small entities under the criteria of the Regulatory Flexibility Act. We have placed a copy of the draft regulatory evaluation prepared for this action in the Rules Docket. You may obtain a copy of it by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends Section 39.13 by adding a new airworthiness directive (AD) to read as follows:

Pilatus Aircraft Ltd. Docket No. 2000-CE-03-AD.

(a) What airplanes are affected by this AD? This AD affects Models PC-12 and PC-12/45 airplanes, manufacturer serial numbers (MSN) 101 through MSN 301, that:

(1) Are certificated in any category; and

(2) Are equipped with any of the following Pilatus torque oil-pressure tubes and py pressure pipe assemblies:

(i) Pilatus part number (P/N) 577.11.12.105 (or FAA-approved equivalent part number);

(ii) Pratt & Whitney Canada (P&WC) P/N 3119969 (or FAA-approved equivalent part number); and

(iii) Pilatus P/N 577.11.12.104 (or FAA-approved equivalent part number).

(b) Who must comply with this AD? Anyone who wishes to operate any of the above airplanes on the U.S. Register must comply with this AD.

(c) What problem does this AD address? Our intent is that the actions specified in this AD correct chafing damage and consequent loss of engine oil caused by rubbing pipes. Such damage could result in loss of propulsion during critical phases of flight.

(d) What must I do to address this problem? To address this problem, you must accomplish the following actions:

Actions | Compliance times | Procedures
(1) Inspect the torque oil-pressure tubes and the py pressure pipe assemblies for abrasion damage and distortion | Within the next 50 hours time-in-service (TIS) after the effective date of the AD | Accomplish in accordance with the ACCOMPLISHMENT INSTRUCTIONS—AIRCRAFT paragraph of Pilatus Service Bulletin No. 71-004, dated December 22, 1999.
(2) If there is any abrasion damage or distortion, accomplish the following: | Before further flight after the inspection. | As specified in the above-referenced service information.
(i) Replace the pipes and tubes with the damage or distortion; and
(ii) Make sure there is a clearance distance of not less than 0.12 inches (3.0 millimeters), and make any appropriate adjustments
(3) If no abrasion damage or distortion is found, make sure there is a clearance distance of not less than 0.12 inches (3.0 millimeters), and make any appropriate adjustments | Before further flight after the inspection | As specified in the above-referenced service information.

(e) Can I comply with this AD in any other way? You may use an alternative method of compliance or adjust the compliance time if:

(1) Your alternative method of compliance provides an equivalent level of safety; and

(2) The Manager, Small Airplane Directorate approves your alternative. Submit your request through an FAA Principal Maintenance Inspector, who may add comments and then send it to the Manager, Small Airplane Directorate, 901 Locust, Room 301, Kansas City, Missouri 64106.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. You should include in the request an assessment of the effect of the modification, alteration, or repair on the unsafe condition addressed by this AD; and, if you have not eliminated the unsafe condition, specific actions you propose to address it.

(f) Where can I get information about any already-approved alternative methods of compliance? You can contact Mr. Roman T. Gabrys, Aerospace Engineer, FAA, Small Airplane Directorate, 901 Locust, Room 301, Kansas City, Missouri 64106; telephone: (816) 329-4141; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may obtain copies of the documents referenced in this AD from Pilatus Aircraft Ltd., Customer Liaison Manager, CH-6371 Stans, Switzerland; telephone: +41 41 619 63 19; facsimile: +41 41 619 6224. You may examine these documents at FAA, Central Region, Office of the Regional Counsel, 901 Locust, Room 506, Kansas City, Missouri 64106.

Note 2: The subject of this AD is addressed in Swiss AD HB 2000-007, dated January 17, 2000.

Issued in Kansas City, Missouri, on August 11, 2000.
Michael Gallagher,
Manager, Small Airplane Directorate, Aircraft Certification Service.

[FR Doc. 00-20967 Filed 8-17-00; 8:45 am]

BILLING CODE 4910-13-P